DEPARTMENT OF COMMERCE

Foreign-Trade Zones Board

[Order No. 1242]

Approval for Subzone Expansion and Expanded Manufacturing Authority (Automotive Lighting Products), Foreign-Trade Subzone 146A, North American Lighting, Inc., Flora and Salem, IL

Pursuant to its authority under the Foreign-Trade Zones Act of June 18, 1934, as amended (19 U.S.C. 81a-81u), the Foreign-Trade Zones Board (the Board) adopts the following Order:

Whereas, the Bi-State Authority, grantee of Foreign-Trade Zone 146 (Lawrence County, Illinois), has requested authority on behalf of North American Lighting, Inc. (NAL), operator of FTZ 146A, at the NAL automotive lighting products manufacturing facilities in Flora and Salem, Illinois, to expand the subzone to include a third site in Paris, Illinois; to expand the boundary of Site 1; and, to expand the scope of manufacturing authority to include new manufacturing capacity under FTZ procedures (FTZ Doc. 43-2001, filed 10/31/2001);

Whereas, notice inviting public comment was given in the Federal Register (66 FR 56271, 11/7/2001; 67 FR 44172, 7/1/2002—technical correction);

Whereas, the Board adopts the findings and recommendations of the examiner's report, and finds that the requirements of the FTZ Act and the Board's regulations are satisfied, and that approval of the application is in the public interest;

Now therefore, the Board hereby approves the request, subject to the FTZ Act and the Board's regulations, including Section 400.28.

Signed at Washington, DC, this 23rd day of August 2002.
Faryar Shirzad,
Assistant Secretary of Commerce for Import Administration, Alternate Chairman, Foreign-Trade Zones Board.

[FR Doc. 02-22744 Filed 9-5-02; 8:45 am]

BILLING CODE 3510-DS-P